FEDERAL COMMUNICATIONS COMMISSION

Sunshine Act Meeting; Open Commission Meeting; Monday, October, 28, 2013

October 17, 2013.

The Federal Communications Commission will hold an Open Meeting on the subjects listed below on Monday, October 28, 2013, which is scheduled to commence at 11:30 a.m. in Room TW-C305, at 445 12th Street SW., Washington, DC. The Commission is waving the sunshine period prohibition contained in section 1.1203 of the Commission's rules, 47 CFR 1.1203, until 12 noon on Thursday, October 24, 2013. Thus, presentations with respect to the items listed below will be permitted until that time.

Item No. | Bureau | Subject
1 | WIRELINE COMPETITION | TITLE: Rural Call Completion (WC Docket No. 13-39) SUMMARY: The Commission will consider a Report and Order and Further Notice of Proposed Rulemaking to address problems associated with completion of long distance calls to rural areas.
2 | WIRELESS TELECOMMUNICATIONS | TITLE: Promoting Interoperability in the 700 MHz Commercial Spectrum (WT Docket No. 12-69); Requests for Waiver and Extension of Lower 700 MHz Band Interim Construction Benchmark Deadlines (WT Docket No. 12-332) SUMMARY: The Commission will consider a Report and Order that implements an industry solution to provide interoperable service in the lower 700 MHz band.
3 | PUBLIC SAFETY AND HOMELAND SECURITY | TITLE: Implementing Public Safety Broadband Provisions of the Middle Class Tax Relief and Job Creation Act of 2012 (PS Docket No. 12-94); Implementing a Nationwide, Broadband, Interoperable Public Safety Network in the 700 MHz Band (PS Docket No. 06-229); Service Rules for the 698-746, 747-762 and 777-792 MHz Bands (WT Docket No. 06-150) SUMMARY: The Commission will consider a Second Report and Order adopting technical rules for the 700 MHz broadband spectrum licensed to the First Responder Network Authority.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-24949 Filed 10-21-13; 11:15 am]

BILLING CODE 6712-01-P